DEPARTMENT OF DEFENSE

Department of the Army; Corps of Engineers

Availability of the Draft Finding of No Significant Impact and Draft Memorandum of Agreement for the Arlington National Cemetery Southern Expansion Project and Associated Roadway Realignment for the Final Environmental Assessment, Arlington, VA

AGENCY: Department of the Army, U.S. Army Corps of Engineers, DoD.

ACTION: Notice of availability.

SUMMARY: The U.S. Army Corps of Engineers (USACE) Norfolk District, on behalf of the Arlington National Cemetery (ANC), announces the availability of a Draft Finding of No Significant Impact (FONSI) for the Arlington National Cemetery Southern Expansion Project and Associated Roadway Realignment Project. The Final Environmental Assessment (EA) evaluated potential impacts resulting from the proposed cemetery's contiguous acreage, by utilizing the former Navy Annex site, located south of the existing cemetery, and relocating roadways and modifying an interchange, in Arlington, Virginia. The EA also described the potential adverse effects on cultural resources related to the integration of the Air Force Memorial into the cemetery as part of the expansion, the conversion of Patton Drive to a pedestrian trail, and the demolition of a portion of the boundary wall. ANC and key stakeholders—the Federal Highway Administration, Eastern Federal Lands Highway Division, the Virginia Department of Transportation, and Arlington County developed a roadway realignment and relocation that creates an opportunity to address multimodal capacity along Columbia Pike while enabling the cemetery to maximize land available for internment capacity, as provided through Congressional legislation.

DATES: The Draft FONSI is available for a 30-day review period. Written comments will be accepted until the close of business on September 30, 2019.

ADDRESSES: The public is invited to submit comments to Ms. Kathy Perdue, Department of the Army, U.S. Army Corps of Engineers, Norfolk District, Planning and Policy Branch, 803 Front St., Norfolk, VA 23510 or via email: SouthernExpansion@usace.army.mil. The Project title and the commenter's contact information should be included with submitted comments.

FOR FURTHER INFORMATION CONTACT: Ms. Kathy Perdue, (757) 201-7218.

SUPPLEMENTARY INFORMATION:

The Draft FONSI and Final EA are available for review at the following locations:

(1) The USACE Norfolk District Arlington National Cemetery Southern Expansion website: http://www.nao.usace.army.mil/Missions/Military-Construction/ANCSouthernExpansion/.

(2) The ANC website: https://www.arlingtoncemetery.mil/About/Policies-and-Public-Notices/Public-Notices.

(3) Compact Discs will be available at the following Arlington County, Virginia Public Libraries:

a. Arlington County Central Library, 1015 N Quincy Street, Arlington, VA 22201.

b. Aurora Hills Branch Public Library, 735 South 18th Street, Arlington, VA 22202.

Columbia Pike Branch Public Library, 816 South Walter Reed Drive, Arlington, VA 22204.

ANC, a Direct Report Unit of the Headquarters Department of the Army, is the lead federal agency for this Project, and the USACE has prepared the draft NEPA document on behalf of (ANC), assisted by the HNTB Corporation. The following are served as cooperating agencies during the NEPA process: Federal Highway Administration, Eastern Federal Lands Highway Division (FHWA-EFLHD), the Environmental Protection Agency (EPA), the National Capital Planning Commission (NCPC), the Virginia Department of Transportation (VDOT), and Arlington County. The ANC and the USACE also considered the input of the public.

ANC is located within the eastern boundary of Arlington County, in the northeastern corner of the Commonwealth of Virginia, and at the western terminus of Memorial Avenue, directly across the Arlington Memorial Bridge and the Potomac River from the District of Columbia (Washington DC). ANC is our nation's most hallowed ground. This Army cemetery consists of 624 acres and is the final resting place of over 400,000 service members and their families. The proposed Southern Expansion site, bounded by Washington Boulevard (Route 27), I-395, the VDOT Maintenance Complex, the Foxcroft Heights neighborhood, and the ANC, involves approximately 70 acres, including roadway corridors, among three landowners: ANC, Arlington County, and VDOT.

Proposed Action. The Proposed Action is to establish a single contiguous parcel of land south of the cemetery by relocating and realigning local roadways and developing the parcel to increase interment capacity. The contiguous parcel would be created through the replacement of Southgate Road with a new South Nash Street, and realignment of Columbia Pike and the Columbia Pike/Washington Boulevard (Route 27) interchange (adjacent to the Pentagon). The existing Air Force Memorial (AFM) would be incorporated into the cemetery expansion, existing Patton Drive would be converted into a trail, and the existing Operations Complex would be relocated south of Columbia Pike.

FHWA-EFLHD, in addition to its role as a cooperating agency, is designing the roadways that would be relocated as a result of ANC expansion. The FHWA-EFLHD has indicated that all decision-making to-date concerning the Environmental Assessment is agreeable. Recently, at the request of Arlington County and the Virginia Department of Transportation, the FHWA-EFLHD agreed to update traffic studies to analyze how recent changes in adjacent land use, including the move of Amazon HQ2 to Pentagon City, might impact the modified access to Route 27 (Washington Boulevard) with Columbia Pike associated with this federal project. The FHWA-EFLHD has indicated that it intends to adopt the Environmental Assessment and issue its own Finding of No Significant Impact, if appropriate, after the updated traffic studies are completed.

Public Involvement. A Notice of Intent to prepare an EA was published in the Federal Register (81 FR 23281) on April 20, 2016. A public NEPA scoping meeting was held on April 27, 2016, in Arlington County. Public scoping comments were collected during a 30-day comment period, and addressed in the Draft EA. A Notice of Availability of the Draft EA was published in the Federal Register (83 FR 40757), on August 16, 2018. A second public meeting was held on August 22, 2018, in Arlington, Virginia. Additional public comments on the Draft EA were received during a 30-day comment period, and have been addressed in the appendix of the Final EA.

Pursuant to the requirements of the National Environmental Policy Act of 1969, as amended (NEPA), 42 U.S.C. 4321-4370, as implemented by the Council on Environmental Quality Regulations (40 CFR parts 1500-1508), the Army, as the lead federal agency, has determined that the project does not have the potential to cause significant impacts on the human environment, and has developed the Draft FONSI and Final EA to examine and assess the impacts of the Proposed Action. FHWA-EFLHD has indicated that all decision-making to-date is agreeable, and that FHWA-EFLHD intends to adopt the ANC's EA and issue its own FONSI if appropriate, after the traffic studies related to the modified access to Route 27 (Washington Boulevard) with Columbia Pike.

Karen Durham-Aguilera,
Executive Director, Arlington National Cemetery.

[FR Doc. 2019-18665 Filed 8-29-19; 8:45 am]

BILLING CODE 3720-58-P